DEPARTMENT OF COMMERCE

National Oceanic and Atmospheric Administration

RIN 0648-XD220

Mid-Atlantic Fishery Management Council; Public Meetings

AGENCY: National Marine Fisheries Service (NMFS), National Oceanic and Atmospheric Administration (NOAA), Commerce.

ACTION: Notice of public meetings.

SUMMARY: The Mid-Atlantic Fishery Management Council's (Council) Mackerel-Squid-Butterfish (MSB) Monitoring Committee will meet twice via webinar to develop recommendations for future MSB specifications.

DATES: The first meeting will be Tuesday May 13, 2014, starting at 9 a.m. and ending by 11 a.m. The second meeting will be Tuesday May 27, 2014, starting at 9 a.m. and ending by 1 p.m.

ADDRESSES: The meetings will be held via webinar, but anyone can also attend at the Council office address (see below). The webinar link is: http://mafmc.adobeconnect.com/msbmc2015specs/. Please call the Council in advance if you wish to attend at the Council office.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Council's Mackerel-Squid-Butterfish (MSB) Monitoring Committee will meet twice to develop recommendations for future MSB specifications. The first meeting will focus on reviewing the available information and plan any additionally needed analyses. The second meeting will focus on finalizing recommendations for the Council. There will be time for public questions and comments at both meetings. The Council utilizes the Monitoring Committee recommendations at each June Council meeting when setting the subsequent years' MSB specifications.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations:

The meetings are physically accessible to people with disabilities. Requests for sign language interpretation or other auxiliary aids or assistance should be directed to M. Jan Saunders at the Mid-Atlantic Council Office, (302) 526-5251, at least 5 days prior to the meeting date.

Dated: April 9, 2014.
Tracey L. Thompson,
Acting Deputy Director, Office of Sustainable Fisheries, National Marine Fisheries Service.

[FR Doc. 2014-08323 Filed 4-11-14; 8:45 am]

BILLING CODE 3510-22-P